FEDERAL COMMUNICATIONS COMMISSION

47 CFR Part 73

[DA 04-675; MB Docket No. 04-69; RM-10859]

Radio Broadcasting Services; Dexter, GA

AGENCY: Federal Communications Commission.

ACTION: Proposed rule.

SUMMARY: This document requests comments on a petition for rule making filed by Broadcast Equities Corp. (“Petitioner”) to add a Class A FM channel to Dexter, Georgia. This proposal would provide Dexter with its first local aural transmission service. Although Petitioner originally proposed to allot Channel 300A to Dexter, that proposal was returned as unacceptable for consideration because it was short spaced to a licensed FM station. Petitioner filed a petition for reconsideration of that dismissal, which this document dismisses as moot in light of the fact that the Commission has found another Class A FM channel, Channel 276A, which complies with the Commission's technical requirements and can be allotted to Dexter, Georgia. The coordinates for that allotment are 32-25-59 NL and 83-01-33 WL, with a site restriction of 3.3 kilometers (2.1 miles) east of Dexter.

DATES: Comments must be filed on or before May 6, 2004, and reply comments on or before May 21, 2004.

ADDRESSES: Secretary, Federal Communications Commission, 445 12th Street, SW., Room TW-A325, Washington, DC 20554. In addition to filing comments with the FCC, interested parties should serve the petitioner's counsel, as follows: Dan J. Alpert, Esq, The Law Office of Dan J. Alpert; 2120 N. 21st Road; Arlington, Virginia 22201.

FOR FURTHER INFORMATION CONTACT: R. Barthen Gorman, Media Bureau, (202) 418-2180.

SUPPLEMENTARY INFORMATION: This is a synopsis of the Commission's Notice of Proposed Rule Making, MB Docket No. 04-69, adopted March 12, 2004, and released March 15, 2004. The full text of this Commission decision is available for inspection and copying during regular business hours in the FCC's Reference Information Center at Portals II, 445 12th Street, SW., CY-A257, Washington, DC 20554. This document may also be purchased from the Commission's duplicating contractors, Qualex International, Portals II, 445 12th Street, SW., Room CY-B402, Washington, DC 20554, telephone 202-863-2893, facsimile 202-863-2898, or via e-mail qualexint@aol.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. §§ 154, 303, 334, and 336.

§ 73.202 [Amended]

2. Section 73.202(b), the Table of FM Allotments under Georgia, is amended by adding Dexter, Channel 276A.

Federal Communications Commission.
John A. Karousos,
Assistant Chief, Audio Division, Media Bureau.

[FR Doc. 04-7096 Filed 3-29-04; 8:45 am]

BILLING CODE 6712-01-P